NUCLEAR REGULATORY COMMISSION

[NRC-2020-0181]

Applications and Amendments to Facility Operating Licenses and Combined Licenses Involving Proposed No Significant Hazards Considerations and Containing Sensitive Unclassified Non-Safeguards Information and Order Imposing Procedures for Access to Sensitive Unclassified Non-Safeguards Information

AGENCY: Nuclear Regulatory Commission.

ACTION: License amendment request; notice of opportunity to comment, request a hearing, and petition for leave to intervene; order imposing procedures.

SUMMARY: The U.S. Nuclear Regulatory Commission (NRC) received and is considering approval of two amendment requests. The amendment requests are for Oconee Nuclear Station, Units 1, 2, and 3 and Beaver Valley Power Station, Unit 2. For each amendment request, the NRC proposes to determine that they involve no significant hazards consideration. Because each amendment request contains sensitive unclassified non-safeguards information (SUNSI) an order imposes procedures to obtain access to SUNSI for contention preparation.

DATES: Comments must be filed by October 8, 2020. A request for a hearing or petitions for leave to intervene must be filed by November 9, 2020. Any potential party as defined in section 2.4 of title 10 of the Code of Federal Regulations (10 CFR) who believes access to SUNSI is necessary to respond to this notice must request document access by September 18, 2020.

ADDRESSES: You may submit comments by any of the following methods:

• Federal Rulemaking website: Go to https://www.regulations.gov and search for Docket ID NRC-2020-0181. Address questions about NRC docket IDs in Regulations.gov to Jennifer Borges; telephone: 301-287-9127; email: Jennifer.Borges@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Kay Goldstein, Office of Nuclear Reactor Regulation, U.S. Nuclear Regulatory Commission, Washington DC 20555-0001; telephone: 301-415-1506, email: Kay.Goldstein@nrc.gov.

SUPPLEMENTARY INFORMATION:

I. Obtaining Information and Submitting Comments

A. Obtaining Information

Please refer to Docket ID NRC-2020-0181, facility name, unit number(s), docket number(s), application date, and subject when contacting the NRC about the availability of information for this action. You may obtain publicly-available information related to this action by any of the following methods:

• Federal Rulemaking website: Go to https://www.regulations.gov and search for Docket ID NRC-2020-0181.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

B. Submitting Comments

Please include Docket ID NRC-2020-0181, facility name, unit number(s), docket number(s), application date, and subject in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

Pursuant to Section 189a.(2) of the Atomic Energy Act of 1954, as amended (the Act), the NRC is publishing this notice. The Act requires the Commission to publish notice of any amendments issued, or proposed to be issued and grants the Commission the authority to issue and make immediately effective any amendment to an operating license or combined license, as applicable, upon a determination by the Commission that such amendment involves no significant hazards consideration, notwithstanding the pendency before the Commission of a request for a hearing from any person.

This notice includes notices of amendments containing SUNSI.

III. Notice of Consideration of Issuance of Amendments to Facility Operating Licenses and Combined Licenses, Proposed No Significant Hazards Consideration Determination, and Opportunity for a Hearing

The Commission has made a proposed determination that the following amendment requests involve no significant hazards consideration. Under the Commission's regulations in 10 CFR 50.92, this means that operation of the facility in accordance with the proposed amendment would not (1) involve a significant increase in the probability or consequences of an accident previously evaluated, or (2) create the possibility of a new or different kind of accident from any accident previously evaluated, or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example, in derating or shutdown of the facility. If the Commission takes action prior to the expiration of either the comment period or the notice period, it will publish a notice of issuance in the Federal Register. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's website at https://www.nrc.gov/reading-rm/doc-collections/cfr/. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at https://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at https://www.nrc.gov/site-help/e-submittals/getting-started.html. Once a participant has obtained a digital ID certificate and a docket has been created, the participant can then submit adjudicatory documents. Submissions must be in Portable Document Format (PDF). Additional guidance on PDF submissions is available on the NRC's public website at https://www.nrc.gov/site-help/electronic-sub-ref-mat.html. A filing is considered complete at the time the document is submitted through the NRC's E-Filing system. To be timely, an electronic filing must be submitted to the E-Filing system no later than 11:59 p.m. Eastern Time (ET) on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click “cancel” when the link requests certificates and you will be automatically directed to the NRC's electronic hearing dockets where you will be able to access any publicly-available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

Duke Energy Carolinas, LLC, Docket Nos. 50-269, 50-270, and 50-287, Oconee Nuclear Station, Units 1, 2, and 3, Oconee County, South Carolina

Date of amendment request: August 28, 2019, as supplemented by letter dated June 15, 2020. Publicly-available versions are in ADAMS under Package Accession No. ML19240A925 and ADAMS Accession No. ML20168A980, respectively.

Description of amendment request: This amendment request contains SUNSI. The amendments would revise the current licensing basis for the Oconee Nuclear Station, Units 1, 2, and 3, regarding high energy line breaks (HELBs) outside of the containment building. The license amendment request (LAR) includes proposed revisions to the updated final safety analysis report (UFSAR) in support of the proposed revised HELB licensing basis. The proposed change would establish normal plant systems, protected service water, and/or the standby shutdown facility as the assured mitigation path following a HELB.

Basis for proposed no significant hazards consideration determination: As required by 10 CFR 50.91(a), the licensee has provided its analysis of the issue of no significant hazards consideration, which is presented below:

1. Does the proposed amendment involve a significant increase in the probability or consequences of an accident previously evaluated?

Response: No.

Justification: A High Energy Line Break (HELB) does not constitute a previously-evaluated accident. HELB is a design criterion that is required to be considered in the design of structures, systems, or components and is not a design basis accident or design basis event. The possibility of HELBs is appropriately considered in the UFSAR and Duke Energy has concluded that the proposed changes do not increase the possibility that a HELB will occur or increase the consequences from a HELB. This LAR provides an overview of the HELB reanalysis, descriptions of station modifications that will be made as a result of the HELB reanalysis, and the proposed mitigation strategies which now includes normal plant equipment, the protected service water (PSW) system, and the standby shutdown facility (SSF).

The analysis that supports the HELB LAR is a comprehensive reevaluation of HELBs that could occur in the plant. The analysis evaluated over 3,000 postulated break locations per unit. The evaluations showed that for each break, the capability to reach safe shutdown is available considering the postulation of a single active failure. The evaluation results determined the plant's ability to safely mitigate HELBs that could occur and increase overall safety of the plant.

The PSW and SSF Systems are designed as standby systems for use under emergency conditions. With the exception of testing, the systems are not normally pressurized. The duration of the test configuration is short as compared to the total plant (unit) operating time. Due to the combination of the infrequent testing and short duration of the test, pipe ruptures are not postulated or evaluated for these systems.

Other systems have also been excluded based on the infrequency of those systems operating at high energy conditions. Consideration of HELBs is excluded (both breaks and cracks) if a high energy system operates less than 1 [percent] of the total unit operating time such as emergency feedwater or reactor building spray or if the operating time of a system at high energy conditions is less than approximately 2 [percent] of total system operating time such as low pressure injection. This is acceptable based on the very low probability of a HELB occurring during the limited operating time of these systems at high energy conditions. Gas and oil systems have been evaluated, since these systems also possess limited energy.

The modifications associated with the HELB licensing basis will be designed and installed in accordance with applicable quality standards to ensure that no new failure mechanisms, malfunctions, or accident initiators not already considered in the design and licensing basis are introduced. For Turbine Building HELBs that could adversely affect equipment needed to stabilize and cooldown the units, the PSW system or SSF provides assurance that safe shutdown can be established and maintained. For Auxiliary Building HELBs, normal plant systems or the SSF provides assurance that safe shutdown can be established and maintained.

As noted in Section 3.4 [of the LAR], Oconee Nuclear Station plans to adopt the provisions of [NRC] Branch Technical Position (BTP) Mechanical Engineering Branch (MEB) 3-1 [Revision 2 of BTP MEB 3-1, “Postulated Rupture Locations in Fluid System Piping Inside and Outside Containment,” was provided in NRC Generic Letter 87-11, “Relaxation in Arbitrary Intermediate Pipe Rupture Requirements,” ADAMS Accession No. ML031150493 regarding the elimination of arbitrary intermediate breaks for analyzed lines that include seismic loading. Guidance in the BTP MEB 3-1 is used to define crack locations in analyzed lines that include seismic loading. Adoption of this provision allows Oconee Nuclear Station to focus attention to those high stress areas that have a higher potential for catastrophic pipe failure. In absence of additional guidance, Duke Energy uses NUREG/CR-2913 [“Two-Phase Jet Loads,” ADAMS Accession No. ML073510076] to define the zone of influence for breaks and critical cracks that meet the range of operating parameters listed in NUREG/CR-2913. NUREG/CR-2913 provides an analytical model for predicting two-phase, water jet loadings on axisymmetric targets that did not exist prior in the Giambusso/Schwencer requirements.

In conclusion, the changes proposed will increase assurance that safe shutdown can be achieved following a HELB. The changes will also collectively enhance the station's overall design, safety, and risk margin; therefore, the proposed change does not involve a significant increase in the probability or consequence of an accident previously evaluated.

2. Does the proposed amendment create the possibility of a new or different kind of accident from any accident previously evaluated?

Response: No.

Justification: A HELB does not constitute a previously-evaluated accident. HELB is a design criterion that is required to be considered in the design of structures, systems, or components and is not a design basis accident or design basis event. The possibility of HELBs is appropriately considered in the UFSAR and Duke Energy has concluded that the proposed changes do not increase the possibility that a HELB will create a new or different kind of accident. This LAR provides an overview of HELB analysis, descriptions of station modifications that will be made as a result of the HELB reanalysis, and the proposed mitigation strategies which now include normal plant equipment, the PSW system, and the SSF.

The analysis that supports the HELB LAR is a comprehensive reevaluation of HELBs that could occur in the plant. The analysis evaluated over 3,000 postulated break locations per unit. The evaluations showed that for each break, the capability to reach safe shutdown is available considering the postulation of a single active failure. The evaluation results determined the plant's ability to safely mitigate HELBs that could occur and increases overall safety of the plant.

The modifications associated with the HELB licensing basis will be designed and installed in accordance with applicable quality standards to ensure that no new failure mechanisms, malfunctions, or accident initiators not already considered in the design and licensing basis are introduced. For Turbine Building HELBs that could adversely affect equipment needed to stabilize and cooldown the units, the PSW System or SSF provides assurance that safe shutdown can be established and maintained. For Auxiliary Building HELBs, normal plant systems or the SSF provides assurance that safe shutdown can be established and maintained.

In conclusion, the changes proposed will increase assurance that safe shutdown can be achieved following a HELB. The changes will also collectively enhance the station's overall design, safety, and risk margin; therefore, the proposed change does not create the possibility of a new or different kind of accident from any accident previously evaluated.

3. Does the proposed amendment involve a significant reduction in a margin of safety?

Response: No.

Justification: A HELB does not constitute a previously-evaluated accident. HELB is a design criterion that is required to be considered in the design of structures, systems, or components and is not a design basis accident or design basis event. The possibility of HELBs is appropriately considered in the UFSAR and Duke Energy has concluded that the proposed changes do not involve a reduction in the margin of safety. This LAR provides an overview of the HELB analysis, descriptions of station modifications that will be made as a result of the HELB reanalysis, and the proposed mitigation strategies which now include normal plant equipment, the PSW system, and the SSF.

The analysis that supports the HELB LAR is a comprehensive reevaluation of HELBs that could occur in the plant. The analysis evaluated over 3,000 postulated break locations per unit. The evaluations showed that for each break, the capability to reach safe shutdown is available considering the postulation of a single active failure. The evaluation results determined the plant's ability to safely mitigate HELBs that could occur and increases overall safety of the plant.

The modifications associated with the HELB licensing basis will be designed and installed in accordance with applicable quality standards to ensure that no new failure mechanisms, malfunctions, or accident initiators not already considered in the design and licensing basis are introduced. For Turbine Building HELBs that could adversely affect equipment needed to stabilize and cooldown the units, the PSW System or SSF provides assurance that safe shutdown can be established and maintained. For Auxiliary Building HELBs, normal plant systems or the SSF provides assurance that safe shutdown can be established and maintained.

The changes described above provide a HELB licensing basis and increase overall plant safety margins. The changes have no effect on limiting conditions for operation, limiting safety system settings, and safety limits specified in the technical specifications. Therefore, the proposed change does not involve a reduction in the margin of safety.

The NRC staff has reviewed the licensee's analysis and, based on this review, it appears that the three standards of 10 CFR 50.92(c) are satisfied. Therefore, the NRC staff proposes to determine that the amendment request involves no significant hazards consideration.

Attorney for licensee: Kate Nolan, Deputy General Counsel, Duke Energy Carolinas, 550 South Tryon Street, Charlotte, NC 28202.

NRC Branch Chief: Michael T. Markley.

Energy Harbor Nuclear Corp., Docket No. 50-412, Beaver Valley Power Station, Unit 2, Beaver County, Pennsylvania

Date of amendment request: June 25, 2020. A publicly-available version is in ADAMS under Package Accession No. ML20177A271.

Description of amendment request: This amendment request contains SUNSI. The amendment would revise Beaver Valley Power Station, Unit 2 (BVPS-2) Technical Specification 5.5.5.2.d, “Provisions for SG [Steam Generator] Tube Inspections,” and Technical Specification 5.5.5.2.f.3, “Provisions for SG Tube Repair Methods,” requirements related to methods of inspection and service life for Alloy 800 steam generator tubesheet sleeves.

Basis for proposed no significant hazards consideration determination: As required by 10 CFR 50.91(a), the licensee has provided its analysis of the issue of no significant hazards consideration, which is presented below:

1. Does the proposed amendment involve a significant increase in the probability or consequences of an accident previously evaluated?

Response: No.

The proposed Technical Specification changes do not modify structures, systems or components of the plant, or affect plant operations, design functions or analyses that verify the capability of structures, systems or components to perform a design function. The proposed Technical Specification changes do not increase the likelihood of a SG tube sleeve malfunction.

The leak-limiting Alloy 800 sleeves are designed using the applicable American Society of Mechanical Engineers (ASME) Boiler and Pressure Vessel Code and, therefore, meet the design objectives of the original SG tubing. The applied stresses and fatigue usage for the sleeves are bounded by the limits established in the ASME Code. Mechanical testing has shown that the structural strength of sleeves under normal, upset, emergency, and faulted conditions provides margin to the acceptance limits. These acceptance limits bound the most limiting (three times normal operating pressure differential) burst margin recommended by NRC Regulatory Guide 1.121, “Bases for Plugging Degraded PWR [Pressurized Water Reactor] Steam Generator Tubes.”

The leak-limiting Alloy 800 sleeve depth-based structural limit is determined using NRC guidance and the pressure stress equation of ASME Code, Section III with additional margin added to account for the configuration of long axial cracks. Calculations show that a depth-based limit of 45 percent through-wall degradation is acceptable. However, Technical Specifications 5.5.5.2.c.2 and 5.5.5.2.c.3 provide additional margin by requiring an Alloy 800 sleeved tube to be plugged on detection of any flaw in the sleeve or in the pressure boundary portion of the original tube wall in the sleeve to tube joint.

Degradation of the original tube adjacent to the nickel band of an Alloy 800 sleeve installed in the tubesheet, regardless of depth, would not prevent the sleeve from satisfying design requirements. Thus, flaw detection capabilities within the original tube adjacent to the sleeve nickel band are a defense in-depth measure and are not necessary in order to justify continued operation of the sleeved tube.

Evaluation of repaired steam generator tube testing and analysis indicates that there are no detrimental effects on the leak-limiting Alloy 800 sleeve or sleeved tube assembly from reactor coolant system flow, primary or secondary coolant chemistries, thermal conditions or transients, or pressure conditions that may be experienced at BVPS-2.

The consequences of a hypothetical failure of the leak-limiting Alloy 800 sleeve and tube assembly are bounded by the current steam generator tube rupture analysis described in the BVPS-2 Updated Final Safety Analysis Report because the total number of plugged steam generator tubes (including flow area reduction associated with installed sleeves) is required to be consistent with accident analysis assumptions. The sleeve and tube assembly leakage during plant operation would be minimal and well within the allowable Technical Specification leakage limits and accident analysis assumptions.

Implementation of this proposed amendment would have no significant effect on either the configuration of the plant, the manner in which it is operated, or ability of the sleeve to perform its design function.

Therefore, the proposed amendment does not involve a significant increase in the probability or consequences of an accident previously evaluated.

2. Does the proposed amendment create the possibility of a new or different kind of accident from any accident previously evaluated?

Response: No.

The proposed Technical Specification changes do not create any credible new failure mechanisms, malfunctions, or accident initiators not considered in the design or licensing bases and does not create the possibility of a new or different kind of accident from any previously evaluated.

The leak-limiting Alloy 800 sleeves are designed using the applicable ASME Code, and therefore meet the objectives of the original steam generator tubing. Therefore, the only credible failure modes for the sleeve and tube are to leak or rupture, which have already been evaluated.

The continued integrity of the installed sleeve and tube assembly is periodically verified as required by the Technical Specifications, and a sleeved tube will be plugged on detection of a flaw in the sleeve or in the pressure boundary portion of the original tube wall in the sleeve to tube joint.

Implementation of this proposed amendment would have no significant effect on either the configuration of the plant, the manner in which it is operated, or ability of the sleeve to perform its design function.

Therefore, the proposed amendment does not create the possibility of a new or different kind of accident from any previously evaluated.

3. Does the proposed amendment involve a significant reduction in a margin of safety?

Response: No.

Implementation of the proposed Technical Specification changes would not affect a design basis or safety limit or reduce the margin of safety. The repair of degraded steam generator tubes with leak-limiting Alloy 800 sleeves restores the structural integrity of the degraded tube under normal operating and postulated accident conditions. The reduction in reactor coolant system flow due to the addition of Alloy 800 sleeves is not significant because the cumulative effect of repaired (sleeved) and plugged tubes will continue to allow reactor coolant flow to be greater than the flow limit established in the Technical Specification limiting condition for operation 3.4.1.

The design safety factors utilized for the sleeves are consistent with the safety factors in the [ASME] Boiler and Pressure Vessel Code used in the original steam generator design. Tubes with sleeves would also be subject to the same safety factors as the original tubes that are described in the performance criteria for steam generator tube integrity in the existing Technical Specifications. With the proposed Technical Specification changes, the sleeve and portions of the installed sleeve and tube assembly that represent the reactor coolant pressure boundary will continue to be monitored and a sleeved tube will be plugged on detection of a flaw in the sleeve or in the pressure boundary portion of the original tube wall in the leak-limiting sleeve and tube assembly. Use of the previously identified design criteria and design verification testing ensures that the margin of safety is not significantly different from the original steam generator tubes.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Rick C. Giannantonio, General Counsel, Energy Harbor Corp., 168 E. Market Street, Akron, OH 44308-2014.

NRC Branch Chief: James G. Danna.

Order Imposing Procedures for Access to Sensitive Unclassified Non-Safeguards Information for Contention Preparation

A. This Order contains instructions regarding how potential parties to this proceeding may request access to documents containing SUNSI.

B. Within 10 days after publication of this notice of hearing and opportunity to petition for leave to intervene, any potential party who believes access to SUNSI is necessary to respond to this notice may request access to SUNSI. A “potential party” is any person who intends to participate as a party by demonstrating standing and filing an admissible contention under 10 CFR 2.309. Requests for access to SUNSI submitted later than 10 days after publication of this notice will not be considered absent a showing of good cause for the late filing, addressing why the request could not have been filed earlier.

C. The requestor shall submit a letter requesting permission to access SUNSI to the Office of the Secretary, U.S. Nuclear Regulatory Commission, Washington, DC 20555-0001, Attention: Rulemakings and Adjudications Staff, and provide a copy to the Deputy General Counsel for Hearings and Administration, Office of the General Counsel, U.S. Nuclear Regulatory Commission, Washington, DC 20555-0001. The expedited delivery or courier mail address for both offices is: U.S. Nuclear Regulatory Commission, 11555 Rockville Pike, Rockville, Maryland 20852. The email address for the Office of the Secretary and the Office of the General Counsel are Hearing.Docket@nrc.gov and RidsOgcMailCenter.Resource@nrc.gov, respectively.¹ The request must include the following information:

¹ While a request for hearing or petition to intervene in this proceeding must comply with the filing requirements of the NRC's “E-Filing Rule,” the initial request to access SUNSI under these procedures should be submitted as described in this paragraph.

(1) A description of the licensing action with a citation to this Federal Register notice;

(2) The name and address of the potential party and a description of the potential party's particularized interest that could be harmed by the action identified in C.(1); and

(3) The identity of the individual or entity requesting access to SUNSI and the requestor's basis for the need for the information in order to meaningfully participate in this adjudicatory proceeding. In particular, the request must explain why publicly available versions of the information requested would not be sufficient to provide the basis and specificity for a proffered contention.

D. Based on an evaluation of the information submitted under paragraph C.(3) the NRC staff will determine within 10 days of receipt of the request whether:

(1) There is a reasonable basis to believe the petitioner is likely to establish standing to participate in this NRC proceeding; and

(2) The requestor has established a legitimate need for access to SUNSI.

E. If the NRC staff determines that the requestor satisfies both D.(1) and D.(2) above, the NRC staff will notify the requestor in writing that access to SUNSI has been granted. The written notification will contain instructions on how the requestor may obtain copies of the requested documents, and any other conditions that may apply to access to those documents. These conditions may include, but are not limited to, the signing of a Non-Disclosure Agreement or Affidavit, or Protective Order ² setting forth terms and conditions to prevent the unauthorized or inadvertent disclosure of SUNSI by each individual who will be granted access to SUNSI.

² Any motion for Protective Order or draft Non-Disclosure Affidavit or Agreement for SUNSI must be filed with the presiding officer or the Chief Administrative Judge if the presiding officer has not yet been designated, within 30 days of the deadline for the receipt of the written access request.

F. Filing of Contentions. Any contentions in these proceedings that are based upon the information received as a result of the request made for SUNSI must be filed by the requestor no later than 25 days after receipt of (or access to) that information. However, if more than 25 days remain between the petitioner's receipt of (or access to) the information and the deadline for filing all other contentions (as established in the notice of hearing or opportunity for hearing), the petitioner may file its SUNSI contentions by that later deadline.

G. Review of Denials of Access.

(1) If the request for access to SUNSI is denied by the NRC staff after a determination on standing and requisite need, the NRC staff shall immediately notify the requestor in writing, briefly stating the reason or reasons for the denial.

(2) The requestor may challenge the NRC staff's adverse determination by filing a challenge within five days of receipt of that determination with: (a) the presiding officer designated in this proceeding; (b) if no presiding officer has been appointed, the Chief Administrative Judge, or if he or she is unavailable, another administrative judge, or an Administrative Law Judge with jurisdiction pursuant to 10 CFR 2.318(a); or (c) if another officer has been designated to rule on information access issues, with that officer.

(3) Further appeals of decisions under this paragraph must be made pursuant to 10 CFR 2.311.

H. Review of Grants of Access. A party other than the requestor may challenge an NRC staff determination granting access to SUNSI whose release would harm that party's interest independent of the proceeding. Such a challenge must be filed within five days of the notification by the NRC staff of its grant of access and must be filed with: (a) The presiding officer designated in this proceeding; (b) if no presiding officer has been appointed, the Chief Administrative Judge, or if he or she is unavailable, another administrative judge, or an Administrative Law Judge with jurisdiction pursuant to 10 CFR 2.318(a); or (c) if another officer has been designated to rule on information access issues, with that officer.

If challenges to the NRC staff determinations are filed, these procedures give way to the normal process for litigating disputes concerning access to information. The availability of interlocutory review by the Commission of orders ruling on such NRC staff determinations (whether granting or denying access) is governed by 10 CFR 2.311.³

³ Requestors should note that the filing requirements of the NRC's E-Filing Rule (72 FR 49139; August 28, 2007, as amended at 77 FR 46562; August 3, 2012) apply to appeals of NRC staff determinations (because they must be served on a presiding officer or the Commission, as applicable), but not to the initial SUNSI request submitted to the NRC staff under these procedures.

I. The Commission expects that the NRC staff and presiding officers (and any other reviewing officers) will consider and resolve requests for access to SUNSI, and motions for protective orders, in a timely fashion in order to minimize any unnecessary delays in identifying those petitioners who have standing and who have propounded contentions meeting the specificity and basis requirements in 10 CFR part 2. The attachment to this Order summarizes the general target schedule for processing and resolving requests under these procedures.

It is so ordered.

Dated: August 13, 2020.
For the Nuclear Regulatory Commission.
Annette L. Vietti-Cook,
Secretary of the Commission.

Attachment 1—General Target Schedule for Processing and Resolving Requests for Access to Sensitive Unclassified Non-Safeguards Information in This Proceeding
Day | Event/Activity
0 | Publication of Federal Register notice of hearing and opportunity to petition for leave to intervene, including order with instructions for access requests.
10 | Deadline for submitting requests for access to Sensitive Unclassified Non-Safeguards Information (SUNSI) with information: supporting the standing of a potential party identified by name and address; describing the need for the information in order for the potential party to participate meaningfully in an adjudicatory proceeding.
60 | Deadline for submitting petition for intervention containing: (i) Demonstration of standing; and (ii) all contentions whose formulation does not require access to SUNSI (+25 Answers to petition for intervention; +7 petitioner/requestor reply).
20 | U.S. Nuclear Regulatory Commission (NRC) staff informs the requestor of the staff's determination whether the request for access provides a reasonable basis to believe standing can be established and shows need for SUNSI. (NRC staff also informs any party to the proceeding whose interest independent of the proceeding would be harmed by the release of the information.) If NRC staff makes the finding of need for SUNSI and likelihood of standing, NRC staff begins document processing (preparation of redactions or review of redacted documents).
25 | If NRC staff finds no “need” or no likelihood of standing, the deadline for petitioner/requestor to file a motion seeking a ruling to reverse the NRC staff's denial of access; NRC staff files copy of access determination with the presiding officer (or Chief Administrative Judge or other designated officer, as appropriate). If NRC staff finds “need” for SUNSI, the deadline for any party to the proceeding whose interest independent of the proceeding would be harmed by the release of the information to file a motion seeking a ruling to reverse the NRC staff's grant of access.
30 | Deadline for NRC staff reply to motions to reverse NRC staff determination(s).
40 | (Receipt +30) If NRC staff finds standing and need for SUNSI, deadline for NRC staff to complete information processing and file motion for Protective Order and draft Non-Disclosure Affidavit. Deadline for applicant/licensee to file Non-Disclosure Agreement for SUNSI.
A | If access granted: issuance of presiding officer or other designated officer decision on motion for protective order for access to sensitive information (including schedule for providing access and submission of contentions) or decision reversing a final adverse determination by the NRC staff.
A + 3 | Deadline for filing executed Non-Disclosure Affidavits. Access provided to SUNSI consistent with decision issuing the protective order.
A + 28 | Deadline for submission of contentions whose development depends upon access to SUNSI. However, if more than 25 days remain between the petitioner's receipt of (or access to) the information and the deadline for filing all other contentions (as established in the notice of opportunity to request a hearing and petition for leave to intervene), the petitioner may file its SUNSI contentions by that later deadline.
A + 53 | (Contention receipt +25) Answers to contentions whose development depends upon access to SUNSI.
A + 60 | (Answer receipt +7) Petitioner/Intervenor reply to answers.
>A + 60 | Decision on contention admission.

[FR Doc. 2020-18085 Filed 9-4-20; 8:45 am]

BILLING CODE 7590-01-P